COMMITTEE FOR PURCHASE FROM PEOPLE WHO ARE BLIND OR SEVERELY DISABLED

Procurement List; Addition And Deletions

AGENCY: Committee for Purchase From People Who Are Blind or Severely Disabled.

ACTION: Addition to and Deletions from the Procurement List.

SUMMARY: This action adds a service to the Procurement List that will be provided by a nonprofit agency employing persons who are blind or have other severe disabilities, and deletes products and services from the Procurement List previously furnished by such agencies.

DATES: Effective Date: 5/13/2013.

ADDRESSES: Committee for Purchase From People Who Are Blind or Severely Disabled, 1401 S. Clarke Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Addition

On 2/22/2013 (78 FR 12296-12297), the Committee for Purchase From People Who Are Blind or Severely Disabled published notice of proposed addition to the Procurement List.

After consideration of the material presented to it concerning capability of qualified nonprofit agency to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing a small entity to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type/Location: Laundry Service, Weed Army Community Hospital, 2nd Street, Building 166, Fort Irwin, CA

NPA: Job Options, Inc., San Diego, CA

Contracting Activity: DEPT OF THE ARMY, W40M WESTERN RGNL CNTRG OFC, TACOMA, WA

Deletions

On 3/23/2012 (77 FR 17035); 3/30/2012 (77 FR 19263); 4/6/2012 (77 FR 20795); 4/27/2012 (77 FR 25146-25147); 5/11/2012 (77 FR 27737); 6/29/2012 (77 FR 38775-38776); 7/9/2012 (77 FR 40344-40345); 9/21/2012 (77 FR 58528-58529); 10/12/2012 (77 FR 62219-62220); 10/19/2012 (77 FR 64326-64327); 10/26/2012 (77 FR 65365); 11/2/2012 (77 FR 66181); 11/16/2012 (77 FR 68737-68738); 12/7/2012 (77 FR 73025-73026); 12/21/2012 (77 FR 75616); 1/11/2013 (78 FR 2378); and 3/1/2013 (78 FR 13868-13869), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN: 8920-00-823-7223—Cake Mix

NSN: 8920-00-823-7221—Cake Mix

NSN: 8920-01-250-9522—Pancake Mix

NPA: There was no other nonprofit agency authorized to furnish the products.

Contracting Activity: Defense Logistics Agency Troop Support, Philadelphia, PA

Towel, Machinery Wiping

NSN: 7920-00-NIB-0046

NPA: East Texas Lighthouse for the Blind, Tyler, TX

Contracting Activity: General Services Administration, Fort Worth, TX

NSN: M.R. 552—Nitrile Disposable Gloves

NSN: M.R. 553—Latex Disposable Gloves

NPA: New York City Industries for the Blind, Inc., Brooklyn, NY

Contracting Activity: Defense Commissary Agency, Fort Lee, VA

Corrosion-Preventive Compound

NSN: 8030-00-NIB-0005—Lubricant, 5-in-1 Penetrating Multipurpose oil, Biobased, Aerosol, 18 oz. net.

NPA: The Lighthouse for the Blind, St. Louis, MO

Contracting Activity: General Services Administration, Tools Acquisition

Division I, Kansas City, MO

NSN: 7520-01-238-0978—Flourescent Highlighter—Blue

NSN: 7520-01-238-0979—Flourescent Highlighter—Green

NSN: 7520-01-553-8140—Highlighters, Free-Ink, Flat

NPA: Winston-Salem Industries for the Blind, Inc., Winston-Salem, NC

Contracting Activity: General Services Administration, New York, NY

Computer Accessories

NSN: 7045-01-483-7840—Screen, Anti-Glare/Radiation, Beige, 14″ to 17″ Monitors

NPA: Wiscraft, Inc., Milwaukee, WI

Contracting Activity: General Services Administration, New York, NY

Paper, Mimeograph and Duplicating

NSN: 7530-00-285-3070

NSN: 7530-00-253-0986

NSN: 7530-00-286-6178

NSN: 7530-01-072-2534

NSN: 7530-00-234-7169

NSN: 7530-01-037-5555

NSN: 7530-01-037-5556

NPA: Louisiana Association for the Blind, Shreveport, LA

Contracting Activity: General Services Administration, New York, NY

Blanket Set, Bed

NSN: 6545-00-911-1300

NPA: Ontario County Chapter, NYSARC, Inc., Canandaigua, NY

Contracting Activity: Defense Logistics Agency Troop Support, Philadelphia, PA

Bakery Mix, Biscuit Type

NSN: 8920-00-NSH-0001—Regular

NPA: Transylvania Vocational Services, Inc., Brevard, NC

Contracting Activities:Farm Service Agency, Agriculture Stabilization and Conservation Service, Kansas City, MO, Kansas City Acquisition Branch, Kansas City, MO

Pencil, Woodcase, Rubberized

NSN: 7510-01-425-6766

NPA: Industries for the Blind, Inc., West Allis, WI

Contracting Activity: General Services Administration, New York, NY

Handle, Mop

NSN: 7920-00-246-0930

NPA: Industries of the Blind, Inc., Greensboro, NC

Contracting Activity: General Services Administration, Fort Worth, TX

Sponge, Surgical, Gauze, Compressed

NSN: 6510-00-926-9082

NPA: Elwyn, Inc., Aston, PA

Contracting Activity: Defense Logistics Agency Troop Support, Philadelphia, PA

SKILCRAFT SAVVY Unreal Spot Remover

NSN: 7930-01-517-6196—55 Gallon

NSN: 7930-01-517-6194—32 oz.

NSN: 7930-01-517-2728—5 Gallon

NSN: 7930-01-517-6195—1 Gallon

NPA: Susquehanna Association for the Blind and Vision Impaired, Lancaster, PA

Contracting Activity: General Services Administration, New York, NY

Calculator or Cash Register Paper

NSN: 7530-01-590-7109—Roll, Thermal Paper, 3⅛ in x 270 ft, White

NSN: 7530-01-590-7111—Roll, Thermal Paper, 3⅛ in x 230 ft, White

NPA: Cincinnati Association for the Blind, Cincinnati, OH

Contracting Activity: General Services Administration, New York, NY

VuRyte—VuRyser Ergonomic Computer Workstation

NSN: 7520-01-443-4902

NSN: 7520-01-453-6246

NSN: 7520-01-453-6247

VuRyte Document Holder

NSN: 7520-01-461-1552

NPA: Tarrant County Association for the Blind, Fort Worth, TX

Contracting Activity: General Services Administration, New York, NY

Presentation Sheets, “SmartChart”

NSN: 7520-01-483-8980—Refill Roll

NPA: The Lighthouse for the Blind, Inc. (Seattle Lighthouse), Seattle, WA

Contracting Activity: General Services Administration, New York, NY

Medical Equipment Set, Laboratory, Field

NSN: 6545-01-191-8970

NPA: Ontario County Chapter, NYSARC, Inc., Canandaigua, NY

Contracting Activity: Defense Logistics Agency Troop Support, Philadelphia, PA

Pad, Writing Paper (Easel)

NSN: 7530-00-NIB-0306

NPA: There was no other nonprofit agency authorized to furnish the products.

Contracting Activity: General Services Administration, New York, NY

Nonfat Dry Milk

NSN: 8910-00-NSH-0001—Nonfat Dry Milk

NPAs: CW Resources, Inc., New Britain, CT Transylvania Vocational Services, Inc., Brevard, NC, Knox County Association for Retarded Citizens, Inc., Vincennes, IN

Contracting Activity: Foreign Service Operations International Services Division, Washington, DC

Calendars

NSN: 7510-01-545-3776—Calendar Pad, Type I, 2011

NSN: 7530-01-573-4866—DAYMAX System, LE, 2011, Navy

NSN: 7530-01-573-4866L—DAYMAX System, LE, 2011, Navy w/Logo

NSN: 7510-01-545-3784—Calendar Pad, Type II, 2011

NSN: 7510-01-573-4835—DAYMAX, IE/LE Month at a View, 2011, 3-hole

NSN: 7510-01-573-4839—DAYMAX, IE/LE Week at a View, 2011, 3-hole

NSN: 7510-01-573-4840—DAYMAX, IE/LE Day at a View, 2011, 3-hole

NSN: 7510-01-573-4841—DAYMAX, GLE Day at a View, 2011, 7-hole

NSN: 7510-01-573-4842—DAYMAX, GLE Month at a View, 2011, 7-hole

NSN: 7510-01-573-4843—DAYMAX, Tabbed Monthly, 2011, 3-hole

NSN: 7510-01-573-4844—DAYMAX, Tabbed Monthly, 2011, 7-hole

NSN: 7510-01-573-4847—DAYMAX, GLE Week at a View, 2011, 7-hole

NSN: 7510-01-573-4856—DAYMAX, Tabbed Monthly, 2011, 6-hole

NSN: 7530-01-573-4836—DAYMAX System, DOD Planner, 2011

NSN: 7530-01-573-4837—DAYMAX System, Camouflage Planner, 2011

NSN: 7530-01-573-4836L—DAYMAX System, DOD Planner w/Logo, 2011

NSN: 7530-01-573-4837L—DAYMAX System, Camouflage Planner w/Logo, 2011

NSN: 7530-01-573-4848L—DAYMAX System, JR Version, 2011, Black w/Logo

NSN: 7530-01-573-4848—DAYMAX System, JR Version, 2011, Black

NSN: 7530-01-573-4849—DAYMAX System, GLE, 2011, Black

NSN: 7530-01-573-4849L—DAYMAX System, GLE, 2011, Black w/Logo

NSN: 7530-01-573-4850L—DAYMAX System, LE, 2011, Burgundy w/Logo

NSN: 7530-01-573-4851L—DAYMAX System, GLE, 2011, Navy w/Logo

NSN: 7530-01-573-4853L—DAYMAX System, JR Version, 2011, Navy w/Logo

NSN: 7530-01-573-4854L—DAYMAX System, GLE, 2011, Burgundy w/Logo

NSN: 7530-01-573-4855L—DAYMAX System, Desert, Camouflage Planner, 2011 w/Logo

NSN: 7530-01-573-4858L—DAYMAX System, JR Version, 2011, Burgundy

NSN: 7530-01-573-4860—DAYMAX System, IE, 2011, Black

NSN: 7530-01-573-4860L—DAYMAX System, IE, 2011, Black w/Logo

NSN: 7530-01-573-4861L—DAYMAX System, IE, 2011, Navy w/Logo

NSN: 7530-01-573-4864L—DAYMAX System, IE, 2011, Burgundy w/Logo

NSN: 7530-01-573-4865L—DAYMAX System, LE, 2011, Black w/Logo

NSN: 7530-01-573-4864—DAYMAX System, IE, 2011, Burgundy

NSN: 7530-01-573-4865—DAYMAX System, LE, 2011, Black

NSN: 7530-01-573-4861—DAYMAX System, IE, 2011, Navy

NSN: 7530-01-573-4858—DAYMAX System, JR Version, 2011, Burgundy

NSN: 7530-01-573-4855—DAYMAX System, Desert, Camouflage Planner, 2011

NSN: 7530-01-573-4853—DAYMAX System, JR Version, 2011, Navy

NSN: 7530-01-573-4854—DAYMAX System, GLE, 2011, Burgundy

NSN: 7530-01-573-4851—DAYMAX System, GLE, 2011, Navy

NSN: 7530-01-573-4850—DAYMAX System, LE, 2011, Burgundy

NSN: 7530-01-545-3747—Appointment Book Refill, 2011

NSN: 7530-01-564-6052L—JR Deluxe Time Management System-JR Deluxe Version

NSN: 7530-01-564-6052—JR Deluxe Time Management System-JR Deluxe Version

NSN: 7530-01-564-6051L—JR Deluxe Time Management System-JR Deluxe Version

NSN: 7530-01-564-6051—JR Deluxe Time Management System-JR Deluxe Version

NSN: 7530-01-545-3741—Appt. Book Refill, 2010

NSN: 7530-01-537-7869L—DAYMAX System, Woodland Camouflage Planner, 2010 w/Logo

NSN: 7530-01-537-7869—DAYMAX System, Woodland, Camouflage Planner, 2010

NSN: 7530-01-537-7865L—DAYMAX System, DOD Planner, 2010 w/Logo

NSN: 7530-01-537-7865—DAYMAX System, DOD Planner, 2010

NSN: 7530-01-537-7862L—DAYMAX System, Desert, Camouflage Planner, 2010 w/Logo

NSN: 7530-01-537-7862—DAYMAX System, Desert, Camouflage Planner, 2010

NSN: 7530-01-537-7860L—DAYMAX System, GLE, 2010, Burgundy w/Logo

NSN: 7530-01-537-7860—DAYMAX System, GLE, 2010, Burgundy

NSN: 7530-01-537-7855L—DAYMAX System, GLE, 2010, Navy w/Logo

NSN: 7530-01-537-7855—DAYMAX System, GLE, 2010, Navy

NSN: 7530-01-537-7851L—DAYMAX System, GLE, 2010, Black w/Logo

NSN: 7530-01-537-7851—DAYMAX System, GLE, 2010, Black

NSN: 7530-01-537-7836L—DAYMAX System, LE, 2010, Burgundy w/Logo

NSN: 7530-01-537-7836—DAYMAX System, LE, 2010, Burgundy

NSN: 7530-01-537-7835L—DAYMAX System, LE, 2010, Navy w/Logo

NSN: 7530-01-537-7835—DAYMAX System, LE, 2010, Navy

NSN: 7530-01-537-7834L—DAYMAX System, LE, 2010, Black w/Logo

NSN: 7530-01-537-7834—DAYMAX System, LE, 2010, Black

NSN: 7530-01-537-7833L—DAYMAX System, IE, 2010, Navy w/Logo

NSN: 7530-01-537-7833—DAYMAX System, IE, 2010, Navy

NSN: 7530-01-537-7832L—DAYMAX System, JR Version, 2010, Navy w/Logo

NSN: 7530-01-537-7832—DAYMAX System, JR Version, 2010, Navy

NSN: 7530-01-537-7831L—DAYMAX System, IE, 2010, Burgundy w/Logo

NSN: 7530-01-537-7831—DAYMAX System, IE, 2010, Burgundy

NSN: 7530-01-537-7830L—DAYMAX System, IE, 2010, Black w/Logo

NSN: 7530-01-537-7830—DAYMAX System, IE, 2010, Black

NSN: 7530-01-537-7829L—DAYMAX System, JR Version, 2010, Black w/Logo

NSN: 7530-01-537-7829—DAYMAX System, JR Version, 2010, Black

NSN: 7530-01-537-7828L—DAYMAX System, JR Version, 2010, Burgundy w/Logo

NSN: 7530-01-537-7828—DAYMAX System, JR Version, 2010, Burgundy

NSN: 7510-01-545-3781—Calendar Pad, Type 2, 2010

NSN: 7510-01-537-7880—DAYMAX, GLE Day at a View, 2010, 7-hole

NSN: 7510-01-537-7878—DAYMAX, Tabbed Monthly, 2010, 7-hole

NSN: 7510-01-537-7877—DAYMAX, Tabbed Monthly, 2010, 3-hole

NSN: 7510-01-537-7866—DAYMAX, IE/LE Month at a View, 2010, 3-hole

NSN: 7510-01-537-7872—DAYMAX, IE/LE Day at a View, 2010, 3-hole

NSN: 7510-01-537-7876—DAYMAX, GLE Week at a View, 2010, 7-hole

NSN: 7510-01-537-7874—DAYMAX, GLE Month at a View, 2010, 7-hole

NSN: 7510-01-537-7871—DAYMAX, IE/LE Week at a View, 2010, 3-hole

JR Deluxe Time Management System

NSN: 7510-01-564-6053—JR Tabbed Month Divider

NPA: The Easter Seal Society of Western Pennsylvania, Pittsburgh, PA

Contracting Activity: General Services Administration, New York, NY

Services

Service Type/Location: Janitorial/Custodial— Naval Reserve Center, Kierney, NJ

NPA: The First Occupational Center of New Jersey, Orange, NJ

Contracting Activity: Dept of the Navy, US Fleet Forces Command, Norfolk, VA

Service Type/Location: Janitorial/Custodial—South Weymouth Naval Air Station: Caretaker Site Office, Naval Air Station, South Weymouth, MA

NPA: Community Workshops, Inc., Boston, MA

Contracting Activity: Dept of the Navy, Naval FAC Engineering CMD MID LANT, Norfolk, VA

Service Type/Location: Janitorial/Custodial—Redden U.S. Federal Courthouse: Fleet Management Center, 310 West 6th Street, Medford, OR

NPA: Pathway Enterprises, Inc., Ashland, OR

Contracting Activity: Public Buildings Service, GSA/PBS, Auburn, WA

Service Type/Location: Shelf Stocking & Custodial, Fort Stewart, Fort Stewart, GA

NPA: There was no other nonprofit agency authorized to furnish the service.

Contracting Activity: Defense Commissary Agency, Fort Lee, VA

Barry S. Lineback,
Director, Business Operations.

[FR Doc. 2013-08660 Filed 4-11-13; 8:45 am]

BILLING CODE 6353-01-P